DEPARTMENT OF ENERGY

Federal Energy Regulatory Commission

Combined Notice of Filings

Take notice that the Commission has received the following Natural Gas Pipeline Rate and Refund Report filings:

Filings Instituting Proceedings

Docket Numbers: RP12-732-000.

Applicants: Golden Triangle Storage, Inc.

Description: Revisions to Request for Service Provisions in FERC Gas Tariff to be effective 6/12/2012.

Filed Date: 5/14/12.

Accession Number: 20120514-5118.

Comments Due: 5 p.m. ET 5/29/12.

Docket Numbers: RP12-733-000.

Applicants: Ryckman Creek Resources, LLC.

Description: Compliance Baseline Tariff Filing to be effective 7/16/2012.

Filed Date: 5/15/12.

Accession Number: 20120515-5117.

Comments Due: 5 p.m. ET 5/29/12.

Docket Numbers: RP12-734-000.

Applicants: CenterPoint Energy Gas Transmission Company, LLC.

Description: CEGT LLC—May 15, 2012 Negotiated Rate Filing to be effective 5/15/2012.

Filed Date: 5/15/12.

Accession Number: 20120515-5178.

Comments Due: 5 p.m. ET 5/29/12.

Docket Numbers: RP12-735-000.

Applicants: Columbia Gas Transmission, LLC.

Description: Negotiated Rate Service Agreement—Rice to be effective 5/16/2012.

Filed Date: 5/15/12.

Accession Number: 20120515-5237.

Comments Due: 5 p.m. ET 5/29/12.

Docket Numbers: RP12-736-000.

Applicants: Gulf South Pipeline Company, LP.

Description: EOG 34687-8 Amendment to Negotiated Rate Agreement filing to be effective 5/16/2012.

Filed Date: 5/16/12.

Accession Number: 20120516-5019.

Comments Due: 5 p.m. ET 5/29/12.

Docket Numbers: RP12-737-000.

Applicants: Natural Gas Pipeline Company of America LLC.

Description: Natural Gas Pipeline Company of America LLC. submits tariff filing per 154.204: Negotiated Rate Filing—Tenaska to be effective 5/17/2012.

Filed Date: 5/16/12.

Accession Number: 20120516-5124.

Comments Due: 5 p.m. ET 5/29/12.

Docket Numbers: RP12-738-000.

Applicants: Natural Gas Pipeline Company of America.

Description: Negotiated Rate—Tenaska Gas to be effective 5/17/2012 under RP12-738 Filing Type: 570.

Filed Date: 5/16/12.

Accession Number: 20120516-5144.

Comments Due: 5 p.m. ET 5/29/12.

Docket Numbers: RP12-739-000.

Applicants: Texas Gas Transmission, LLC.

Description: Clean Up List of Non-Conforming Agreements to be effective 6/17/2012.

Filed Date: 5/17/12.

Accession Number: 20120517-5016.

Comments Due: 5 p.m. ET 5/29/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-388-002.

Applicants: Columbia Gas Transmission, LLC.

Description: TCO Prearranged Sales of Capacity to be effective 3/21/2012.

Filed Date: 5/14/12.

Accession Number: 20120514-5074.

Comments Due: 5 p.m. ET 5/29/12.

Docket Numbers: RP12-638-001.

Applicants: Texas Gas Transmission, LLC.

Description: Amendment to RP12-638-000 to be effective 5/1/2012.

Filed Date: 5/15/12.

Accession Number: 20120515-5142.

Comments Due: 5 p.m. ET 5/29/12.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 17, 2012.
Nathaniel J. Davis, Sr.,
Deputy Secretary.

[FR Doc. 2012-12707 Filed 5-24-12; 8:45 am]

BILLING CODE 6717-01-P